DEPARTMENT OF TRANSPORTATION

Federal Motor Carrier Safety Administration

[Docket No. FMCSA-2016-0130]

Commercial Driver's License: Missouri Department of Revenue (DOR); Application for Exemption

AGENCY: Federal Motor Carrier Safety Administration (FMCSA), DOT.

ACTION: Notice of application for exemption; request for comments.

SUMMARY: FMCSA announces that it has received an application from the Missouri Department of Revenue (DOR), Driver's License Bureau, for a limited exemption from the Agency's commercial driver's license (CDL) regulations. These regulations require a driver to pass the general knowledge test before being issued a Commercial Learner's Permit (CLP). The Missouri DOR requests an exemption from knowledge test requirement for qualified veterans who participated in dedicated training in approved military programs. The Missouri DOR states that its goal is to assist qualified veterans in obtaining employment when returning to the civilian workforce, and that granting this exemption will assist veterans who have already been through extensive military training. FMCSA requests public comment on the exemption application. In addition, because the issue raised by the Missouri DOR is not unique to that State, FMCSA requests public comment whether the exemption, if granted, should cover all State Driver's Licensing Agencies (SDLAs).

DATES: Comments must be received on or before May 20, 2016.

ADDRESSES: You may submit comments identified by Federal Docket Management System Number FMCSA-2016-0130 by any of the following methods:

• Federal eRulemaking Portal: www.regulations.gov. See the Public Participation and Request for Comments section below for further information.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m. E.T., Monday through Friday, except Federal holidays.

• Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The on-line FDMS is available 24 hours each day, 365 days each year.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: For information concerning this notice, contact Mr. Richard Clemente, FMCSA Driver and Carrier Operations Division; Office of Carrier, Driver and Vehicle Safety Standards; Telephone: 202-366-2718. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2016-0130), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number, “FMCSA-2016-0130” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31136(e) and 31315 to grant exemptions from certain Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

III. Request for Exemption

The Missouri DOR requests an exemption from 49 CFR 383.71(a)(2)(ii), which requires any person applying for a Commercial Learner's Permit (CLP) on or after July 8, 2015, to have taken and passed a general knowledge test that meets the Federal standards in subparts F, G and H of part 383 for the commercial vehicle group that the applicant operates or expects to operate. The Missouri DOR requested an exemption from the knowledge test requirements for trained military truck drivers, in effect giving designated drivers credit for military training and experience.

The Missouri DOR provides a number of reasons for this request. It contends that qualified veterans who participated in the dedicated training in approved military programs have already received numerous hours of classroom training, practical skills training, and one-on-one road training that are essential for safe driving. Other reasons for the request include:

• The hours of training required by these military programs before certifying trainees to drive military vehicles is in excess of the minimum entry-level driver training required in FMCSA's proposed rulemaking, and is comparable to the skills needed to pass the American Association of Motor Vehicle Administrators (AAMVA) 2005 CDL Test Model. While the AAMVA test standard requires a passing score, the military programs offer training which is not deemed completed until all methods are applied in a practical sense;

• Veterans who participate in specialized military training are assigned duties where their driving skills are applied and used on a frequent basis and would be an asset in civilian life; and

• The trucking industry continually expresses the need for new drivers every year. Providing this incentive would assist in expediting the transition of fully trained military truck drivers to fill these jobs.

In addition, because the issue raised by the Missouri DOR is not unique to that State, FMCSA requests public comment on whether the exemption, if granted, should cover all State Driver's Licensing Agencies (SDLAs).

A copy of the Missouri DOR's application for exemption is available for review in the docket for this notice.

Issued on: April 13, 2016.
Larry W. Minor,
Associate Administrator for Policy.

[FR Doc. 2016-09116 Filed 4-19-16; 8:45 am]

BILLING CODE 4910-EX-P